DEPARTMENT OF STATE

[Notice No. 4263]

Shipping Coordinating Committee; Notice of Meeting

The Shipping Coordinating Committee (SHC) will conduct an open meeting at 9:30 a.m. on Tuesday, March 4, 2003, in Room 6319, at U.S. Coast Guard Headquarters, 2100 2nd Street, SW., Washington, DC 20593-0001. The purpose of this meeting is to prepare for the 46th session of the Subcommittee on Ship Design and Equipment (DE 46) of the International Maritime Organization (IMO) scheduled for March 10-19, 2003, at IMO Headquarters in London, England.

Items of particular interest on the DE 46 agenda are: Revision of resolutions MEPC.60(33) and A.586(14) regarding pollution prevention equipment; interpretations to the 2000 High Speed Craft Code; safety aspects of ballast water management; amendments to SOLAS requirements on electrical installations; amendments to resolution A.744(18) regarding guidelines on the enhanced program of inspections during surveys of bulk carriers and oil tankers; large passenger ship safety; review of fast rescue boat and means of rescue requirements; performance testing and approval standards for SOLAS personal life-saving appliances; protection of pump-rooms of tankers and access to shore-based computer programs for salvage operations; guidelines under MARPOL Annex VI on prevention of air pollution from ships to specifically address on-board NOX monitoring and recording devices; and numerous matters related to bulk carriers.

IMO works to develop international agreements, guidelines, and standards for the marine industry. In most cases, these form the basis for class society rules and national standards/regulations. Open meetings of the SHC support the U.S. Representatives to the IMO in developing the U.S. position on those issues raised at the IMO Subcommittee meetings. This open meeting serves as an excellent forum for the public. Persons are encouraged to attend to participate in the development of the U.S. positions on issues affecting your maritime industry at DE 46 and to remain abreast of all activities ongoing within the IMO. Members of the public may attend this meeting up to the seating capacity of the room. For further information, please contact Mr. Wayne Lundy, at U.S. Coast Guard Headquarters, 2100 Second Street, SW., Washington, DC 20593-0001; e-mail wlundy@comdt.uscg.mil, telephone (202) 267-0024.

Dated: February 11, 2003.
Frederick J. Kenney,
Executive Secretary, Shipping Coordinating Committee, Department of State.

[FR Doc. 03-4362 Filed 2-24-03; 8:45 am]

BILLING CODE 4710-07-P